DEPARTMENT OF LABOR

Office of the Secretary

Submission for OMB Review: Comment Request

January 28, 2005.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Department of Labor, Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Office of the Assistant Secretary for Policy.

Type of Review: New collection of information.

Title: Information Collection Request for the Assessment of Compliance Assistance Activities Generic Clearance.

OMB Number: 1225-0NEW.

Frequency: On occasion.

Type of Response: Reporting.

Affected Public: Business or other for-profit; Not-for-profit institutions; Farms; Individuals or households; State, local, or tribal government; and Federal Government.

Number of Respondents: 9,998.

Number of Annual Respondents: 9,998.

Average Response Time: Phone survey—15 minutes; Mail survey—15 minutes; Onsite revisit—120 minutes; and On-line survey—10 minutes.

Estimated Annual Burden Hours: 2,202.

Total Annualized Capital/Startup Costs: $0.

Total Annual Costs (Operating/Maintaining Systems or Purchasing Services): $0.

Description: DOL proposes to assess and measure self-reported changes in behavior through surveys of workers, employers and other stakeholders. These surveys will provide feedback on compliance assistance documents and materials, onsite consultation visits, telephone and technical assistance, Web sites, partnerships and alliances, and compliance assistance seminars and workshops delivered by DOL across the country to the regulated community. This feedback will help DOL agencies improve the future quality and delivery of compliance assistance tools and services.

Ira L. Mills,
Departmental Clearance Officer.

[FR Doc. 05-2189 Filed 2-3-05; 8:45 am]

BILLING CODE 4510-23-P